DEPARTMENT OF THE INTERIOR

Fish and Wildlife Service

[FWS-HQ-IA-2016-N174; FXIA16710900000-177-FF09A10000]

Threatened Species; Exemption From Threatened Species Permits for a Qualifying Beluga Sturgeon Aquaculture Facility

AGENCY: Fish and Wildlife Service, Interior.

ACTION: Notice.

SUMMARY: We, the U.S. Fish and Wildlife Service (Service), provide notice of an exemption to threatened species permit requirements granted under our Endangered Species Act (Act) regulations for beluga sturgeon (Huso huso). The exemption is for beluga sturgeon reared in an aquaculture facility in Florida that the Service found meets the criteria under our regulations. The exemption authorizes the facility to take beluga sturgeon from its aquacultured stock for the purpose of harvesting aquacultured beluga sturgeon meat and also authorizes the facility to engage in interstate commerce and export of beluga sturgeon meat, which it harvests from its aquacultured stock without a threatened species permit.

ADDRESSES: Documents and other information submitted with the application are available for review, subject to the requirements of the Privacy Act and Freedom of Information Act, by any party who submits a written request for a copy of such documents to: U.S. Fish and Wildlife Service, Division of Scientific Authority, MS: IA, 5275 Leesburg Pike, Falls Church, VA 22041; fax (703) 358-2276.

FOR FURTHER INFORMATION CONTACT: Dr. Rosemarie Gnam, (703) 358-1708 (telephone); (703) 358-2276 (fax); Rosemarie_Gnam@fws.gov (email).

SUPPLEMENTARY INFORMATION:

Background

Under section 4(d) of the Endangered Species Act of 1973, as amended (16 U.S.C. 1531 et seq.), the Service has discretion to issue regulations that we find necessary and advisable to provide for the conservation of threatened wildlife. We may also prohibit by regulation, with respect to threatened wildlife, any act that is prohibited by section 9(a)(1) of the Act for endangered wildlife. In exercising this discretion, the Service enforces general prohibitions that are appropriate for most threatened species. These prohibitions are codified in title 50 of the Code of Federal Regulations at 50 CFR 17.31; threatened species permit requirements are at 50 CFR 17.32. In 2005, the Service promulgated regulations under section 4(d) of the Act for the beluga sturgeon, a threatened species (70 FR 10493, March 4, 2005); these regulations are codified at 50 CFR 17.44(y).

In accordance with 50 CFR 17.44(y)(5), we consider applications for exemptions from threatened species permits for beluga sturgeon caviar and meat obtained from aquaculture facilities located outside the littoral States of Azerbaijan, Bulgaria, Georgia, Islamic Republic of Iran, Kazakhstan, Romania, Russian Federation, Serbia and Montenegro, Turkey, Turkmenistan, and Ukraine. These exemptions are for individual facilities. Through an exemption, the Service may authorize aquacultured beluga sturgeon caviar and meat originating from the facility to be imported, exported, re-exported, or traded in interstate and foreign commerce without threatened species permits issued under 50 CFR 17.32. Additionally, the Service may authorize an exemption for aquaculture facilities within the United States from prohibitions against take for purposes of harvesting caviar or meat or for conducting activities involving research to enhance the survival or propagation of the species.

Under the 4(d) rule, the Service may issue such exemptions only after a facility has satisfactorily demonstrated to us that criteria in § 17.44(y)(5)(i) through (iii) have been met, including: (1) The relevant regulatory authority has certified that the facility implements sufficient controls to prevent the escape of live animals and disease pathogens into local ecosystems; (2) the facility does not rely on wild beluga sturgeon for broodstock; and (3) the facility has entered into a formal agreement with one or more littoral states to study, protect, or otherwise enhance the survival of wild populations of beluga sturgeon. Exemptions granted under § 17.44(y)(5) shall not apply to trade (import, export, re-export, or interstate and foreign commerce) in live beluga sturgeon. Exemptions may be revoked at any time if the Service determines that any of the criteria shown in paragraphs (y)(5)(i) through (iii) are not met by the facility, and applicants are required to submit biennial reports on their compliance. In addition to meeting all requirements of the 4(d) rule, all applicable provisions in 50 CFR parts 13, 14, and 23 remain in effect and must also be met.

On March 6, 2013, we received an application from Sturgeon AquaFarms that requested an exemption from threatened species permits in accordance with 50 CFR 17.44(y)(5) for Sturgeon AquaFarms' aquaculture facility in Bascom, Florida. In evaluating the application, the Service sought additional information from the applicant, the State of Florida, and the littoral states with which the applicant has entered into formal agreements (the Russian Federation and the Republic of Azerbaijan). We also conducted a site visit at the Sturgeon AquaFarms' aquaculture facility in Bascom, Florida. On June 15, 2016, the Service approved, under certain conditions, the requested exemption from threatened species permitting requirements to allow the take of beluga sturgeon from Sturgeon AquaFarms' aquacultured stock, located at its facility in Bascom, Florida, for the purpose of harvesting beluga meat and to allow for the interstate commerce and export of beluga meat the facility harvests from its aquacultured stock. This exemption applies to aquacultured beluga meat only; it does not apply to trade in beluga caviar or live beluga sturgeon.

Authority: We issue this notice under the authority of the Endangered Species Act (16 U.S.C. 1531 et seq.) and in accordance with 50 CFR 17.44(y)(5)(iv).

Brenda Tapia,
Program Analyst, Division of Management Authority.

[FR Doc. 2017-13232 Filed 6-23-17; 8:45 am]

BILLING CODE 4333-15-P